DEPARTMENT OF HOMELAND SECURITY

Fiscal Year 2025 Senior Executive Service Performance Review Boards

AGENCY: Department of Homeland Security.

ACTION: Notice.

SUMMARY: This notice updates the September 11, 2025 notice announcing the appointment of members of the Fiscal Year (FY) 2025 Senior Executive Service (SES) Performance Review Boards (PRBs) for the Department of Homeland Security (DHS).

FOR FURTHER INFORMATION CONTACT: Christian Fajardo, Human Resources Specialist, Office of the Chief Human Capital Officer, christian.fajardo@hq.dhs.gov, 771-200-0392.

SUPPLEMENTARY INFORMATION: This notice updates the notice published on September 11, 2025 at 90 FR 44080, to remove two names and add six names to the FY 2025 SES PRBs for the Department of Homeland Security (DHS). The purpose of the PRBs is to make recommendations to the appointing authority (i.e., Agency Head) on the performance of senior executives (career, noncareer, and limited appointees), including recommendations on performance ratings, performance-based pay adjustments, and performance awards. The PRBs will also make recommendations on the performance of Transportation Security Executive Service, Senior-Level, and Scientific and Professional employees. To make its recommendations, the PRBs will review performance appraisals, initial summary ratings, any response by the employee, and any higher-level official's recommendation.

In accordance with 5 U.S.C. 4314(c) and 5 CFR 430.311, each agency must establish one or more PRBs to make recommendations to the appointing authority (i.e., Agency Head) on the performance of its senior executives. Each PRB must consist of three or more members. More than one-half of the membership of a PRB must be SES career appointees when reviewing appraisals and recommending performance-based pay adjustments or performance awards for career appointees. Composition of the PRB will be determined from among the individuals listed below:

List of Names (Alphabetical Order)

Alfonso-Royals, Angelica

Courtney, Paul

Edwards, Roland

Evans, Karen

Gountanis, John

Guy, Joseph

Hemenway, Troup

Horyn, Iwona

Huffman, Benjamine

Mazzara, Joseph

McCleary, Stephen

McCord, Antoine

McGill, Greyson

Mehringer, Holly

Munoz, Steven

Nelson, Jason

Noem, Kristi

Paramore, Faron

Percival, James

Rubino, Jaclyn

Sartini, Ronald

Stackhouse, Paul

Watkins, Tracey

Dated: January 6, 2026.
Gregory Ruocco,
Director, Executive Resources, Office of the Chief Human Capital Officer.

[FR Doc. 2026-00244 Filed 1-8-26; 8:45 am]

BILLING CODE 9112-FC-P